DEPARTMENT OF ENERGY

Federal Energy Regulatory Commission

[Project Nos. 14269-000, 14270-000]

Riverbank Hydro No. 22, LLC, FFP Project 93, LLC; Notice Announcing Filing Priority for Preliminary Permit Applications

On February 28, 2012, the Commission held a drawing to determine priority between two competing preliminary permit applications with identical filing times. In the event that the Commission concludes that neither of the applicants' plans is better adapted than the other to develop, conserve, and utilize in the public interest the water resources of the region at issue, the priority established by this drawing will serve as the tiebreaker. Based on the drawing, the order of priority is as follows:

1. FFP Project 93, LLC: Project No. 14270-000.

2. Riverbank Hydro No. 22, LLC: Project No. 14269-000.

Dated: February 29, 2012.
Nathaniel J. Davis, Sr.,
Deputy Secretary.

[FR Doc. 2012-5346 Filed 3-5-12; 8:45 am]

BILLING CODE 6717-01-P